FEDERAL ELECTION COMMISSION

Sunshine Act Notices

AGENCY: Federal Election Commission.

Date and Time: Wednesday, June 24, 2009, 11 a.m.

Place: 999 E Street, NW., Washington, DC (Ninth Floor).

Status: This meeting will be closed to the public.

Items To Be Discussed

Compliance matters pursuant to 2 U.S.C. 437g;

Audits conducted pursuant to 2 U.S.C. 437g, § 438(b), and Title 26, U.S.C.;

Matters concerning participation in civil actions or proceedings or arbitration; and

Internal personnel rules and procedures or matters affecting a particular employee.

* * * * *

Date and Time: Thursday, June 25, 2009, at 10 a.m.

Place: 999 E Street, NW., Washington, DC (Ninth Floor).

Status: This meeting will be open to the public.

Items To Be Discussed

Correction and Approval of Minutes;

Draft Advisory Opinion 2009-07: Representative Randy Neugebauer, by Benjamin L. Ginsberg, and Kathryn Biber Chen;

Draft Advisory Opinion 2009-12: Senator Norm Coleman, by Benjamin Ginsberg, William McGinley, and Kathryn Biber Chen; and

Final Rule on Civil Penalty Inflation Adjustments. Management and Administrative Matters.

Individuals who plan to attend and require special assistance, such as sign language interpretation or other reasonable accommodations, should contact Mary Dove, Commission Secretary, at (202) 694-1040, at least 72 hours prior to the hearing date.

Person to Contact for Information: Judith Ingram, Press Officer Telephone: (202) 694-1220.

Mary W. Dove,
Secretary of the Commission.

[FR Doc. E9-14640 Filed 6-18-09; 4:15 pm]

BILLING CODE 6715-01-M